DEPARTMENT OF HEALTH AND HUMAN SERVICES

Centers for Disease Control and Prevention

Task Force on Community Preventive Services

Name: Task Force on Community Preventive Services meeting.

Times and Dates: 8 a.m.-5:30 p.m. EST, June 16, 2010. 8 a.m.-1 p.m. EST, June, 17, 2010.

Place: Centers for Disease Control and Prevention, 2500 Century Center, Atlanta, GA 30329.

Status: Open to the public, limited only by space available.

Purpose: The mission of the Task Force is to develop and publish the Guide to Community Preventive Services (Community Guide), which is based on the best available scientific evidence and current expertise regarding essential public health and what works in the delivery of those services.

Matters to be discussed: (1) Updates of prior reviews on the following topics: Reducing Vaccine-Preventable Diseases; Increasing Screening for Breast, Cervical, and Colorectal Cancer.

(2) New reviews on: Immunization Information Systems; Collaborative Care for the Management of Depressive Disorders and Communication Campaigns with Product Distribution.

Agenda items are subject to change as priorities dictate.

Contact person or additional information: Freda Parker, Community Guide Branch, Centers for Disease Control and Prevention, 1600 Clifton Road, M/S E-69, Atlanta, GA 30333, phone: 404.498.1119.

Dated: May 28, 2010.
Tanja Popovic,
Associate Director for Science, Centers for Disease Control and Prevention.

[FR Doc. 2010-13514 Filed 6-4-10; 8:45 am]

BILLING CODE 4163-18-P